DEPARTMENT OF AGRICULTURE

Farm Service Agency

Request for Revision and Extension of a Currently Approved Information Collection; Total Quality Systems Audit Program

AGENCY: Farm Service Agency, USDA.

ACTION: Notice and request for comments.

SUMMARY: In accordance with the Paperwork Reduction Act of 1995, this notice announces the intention of the Farm Service Agency (FSA) to request a revision and extension of an information collection currently in effect with respect to the Total Quality Systems Audit (TQSA) program. This information collection allows FSA to determine compliance with the TQSA standards. The TQSA program was implemented to ensure that FSA commodity purchases meet customer requirements and needs. Suppliers of commodities covered by the TQSA program have had to meet quality control and food safety standards to assure the quality of the end product being purchased by FSA.

DATES: Comments on this notice must be received on or before June 21, 2004, to be assured consideration.

Additional Information or Comments: Contact Howard Froehlich, Chief, USDA, Farm Service Agency, Warehouse and Inventory Division, Program Development Branch, STOP 0553, 1400 Independence Avenue, SW., Washington, DC 20250-0553, (202) 720-7398; e-mail Howard_Froehlich@wdc.fsa.usda.gov.

SUPPLEMENTARY INFORMATION: Title: Total Quality Systems Audit Program.

OMB Control Number: 0560-0214.

Expiration Date: October 31, 2004.

Type of Request: Revision and extension of a currently approved information collection.

Abstract: The information collected under OMB Control Number 0560-0214, as identified above, allows FSA to administer the TQSA program. The forms approved by this information collection are used by TQSA auditors, employed by FSA, or supplier representatives to secure and record information about the supplier's facility, audit information, and to submit corrective action plans to nonconformances previously found. The information collected is necessary to provide those charged with purchasing FSA commodities a basis to determine whether the supplier's quality management system meets applicable TQSA standards for contract bidding eligibility and to monitor the capability of the quality management system once approved supplier status is achieved. The information collected allows FSA to bill suppliers for the amount of hours TQSA auditors spent auditing supplier's quality management system.

Estimate of Burden: Public reporting burden for this information collection is estimated to average 30 minutes per response.

Respondents: Commodity suppliers participating in the TQSA program.

Estimated Number of Respondents: 200.

Estimated Number of Responses per Respondent: 2.

Estimated Total Annual Burden on Respondents: 400 hours.

Proposed topics for comment include: (a) Whether the continued collection of information is necessary for the proper performance of the functions of the agency, including whether the information will have practical utility; (b) the accuracy of FSA's estimate of burden including the validity of the methodology and assumptions used; (c) enhancing the quality, utility, and clarity of the information collected; or (d) minimizing the burden of the collection of the information on those who are to respond, including through the use of appropriate automated, electronic, mechanical, or other technological collection techniques or other forms of information technology. Comments should be sent to the Desk Officer for Agriculture, Office of Information and Regulatory Affairs, Office of Management and Budget, Washington, DC 20503, and to Howard Froehlich at the address listed above. All comments will become a matter of public record.

Signed at Washington, DC, on April 12, 2004.
Verle E. Lanier,
Administrator, Farm Service Agency.

[FR Doc. 04-8846 Filed 4-19-04; 8:45 am]

BILLING CODE 3410-05-P